ENVIRONMENTAL PROTECTION AGENCY

[FRL-6564-3]

Environmental Financial Advisory Board

AGENCY: Environmental Protection Agency.

ACTION: Notice of charter renewal.

The charter for the Environmental Protection Agency's Environmental Financial Advisory Board (EFAB) will be renewed for an additional two-year period, as a necessary committee which is in the public interest, in accordance with the provisions of the Federal Advisory Committee Act (FACA), 5 U.S.C. App 9(c). The purpose of EFAB is to provide advice and recommendations to the Administrator of EPA on issues associated with environmental financing.

It is determined that EFAB is in public interest in connection with the performance of duties imposed on the Agency by law.

Inquiries may be directed to Alecia Crichlow, EFAB Coordinator, U.S. EPA, Ariel Rios Building, 1200 Pennsylvania Ave., NW, Washington, D.C. 20460 (Mailcode 2731R).

Dated: March 20, 2000.
Michael W.S. Ryan,
Acting Chief Financial Officer.

[FR Doc. 00-7321 Filed 3-22-00; 8:45 am]

BILLING CODE 6560-50-P